DEPARTMENT OF JUSTICE

Antitrust Division

Notice Pursuant to the National Cooperative Research and Production Act of 1993—Siemens Westinghouse Power Corporation: Conformal Direct-Write Technology Enabled, Wireless, Smart Turbine Components

Notice is hereby given that, on October 20, 2004, pursuant to Section 6(a) of the National Cooperative Research and Production Act of 1993, 15 U.S.C. 4301 et seq. (“the Act”), Siemens Westinghouse Power Corporation: Conformal Direct-Write Technology Enabled, Wireless, Smart Turbine Components has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Siemens Westinghouse Power Corporation, Orlando, FL and Mesoscribe Technologies, Inc., Stony Brook, NY. The nature and objectives of the venture are to demonstrate the viability of smart, self-aware engine components that will incorporate embedded, harsh-environment capable sensors for thermal, mechanical, and wear sensing, integrated with wireless technology for signal transmission under the Advanced Technology Program of NIST. The activities of the joint venture will be partially funded by an award from the Advanced Technology Program, National Institute of Standards and Technology.

Dorothy B. Fountain,
Deputy Director of Operations, Antitrust Division.

[FR Doc. 04-26223 Filed 11-26-04; 8:45 am]

BILLING CODE 4410-11-M